ENVIRONMENTAL PROTECTION AGENCY

40 CFR Part 52

[EPA-R03-OAR-2009-0599; FRL-9125-2]

Approval and Promulgation of Air Quality Implementation Plans; Virginia; Revision to Clean Air Interstate Rule Sulfur Dioxide Trading Program

Correction

In final rule document 2010-5105 beginning on page 11738 in the issue of March 12, 2010, make the following correction:

§ 52.2420 [Corrected]

On page 11740, in §52.2420, in the table titled EPA-Approved Virginia Regulations and Statutes, the bold center heading that reads 29 VAC 5, Chapter 140 Regulations for Emissions Trading Programs should read 9 VAC 5, Chapter 140 Regulations for Emissions Trading Programs.

[FR Doc. C1-2010-5105 Filed 6-9-10; 8:45 am]

BILLING CODE 1505-01-D